DEPARTMENT OF THE INTERIOR

Bureau of Land Management

[WY-070-1310-EJ]

Notice of Availability of Draft Environmental Impact Statement (DEIS) and Draft Planning Amendments on the Powder River Basin Oil and Gas Project

AGENCY: Bureau of Land Management, Cooperating Agencies—United States Forest Service, Agriculture; State of Wyoming, Interior.

ACTION: Notice of Availability of Draft Environmental Impact Statement (DEIS) and Draft Plan Amendments on the Powder River Basin Oil and Gas Project in Johnson, Sheridan, Campbell and Converse Counties, Wyoming.

SUMMARY: The Bureau of Land Management (BLM) announces the availability of the Powder River Basin Oil and Gas Project DEIS which evaluates, analyzes, and discloses to the public direct, indirect, and cumulative environmental impacts from continued development of oil and gas resources in the Project Area in Sheridan, Campbell, Johnson, and Converse Counties, Wyoming. The DEIS also considers amendments to the BLM's Buffalo Resource Management Plan (RMP) and Platte River RMP and the Forest Services' Thunder Basin National Grassland (TBNG) Land and Resource Management Plan (LRMP) as a result of the impacts of this development. The Forest Service and the State of Wyoming are Cooperating Agencies.

The DEIS analyzes a proposal by companies to drill and develop wells on their leased acreage within the Powder River Basin Project Area (approximately 8 million acres) in northeastern Wyoming. The lands analyzed include all of the BLM Buffalo Field Office, the northern portion of Converse County of the Casper Field Office, and the TBNG within the four counties.

DATES: Comments on the DEIS will be accepted for 90 days following the date that the Environmental Protection Agency (EPA) publishes its Notice of Availability in the Federal Register. The BLM will notify all parties on the project mailing list of the dates when comments will be accepted. The BLM asks that those submitting comments on the DEIS make them as specific as possible and should refer to page numbers and chapters in the document. Comments are more helpful if they include suggested changes, sources, or methodologies. Comments that contain only opinions or preferences will not receive a formal response, however, they will be considered and included as part of the BLM decisionmaking process.

Future notification of public meetings (anticipated during March 2002) or other public involvement activities concerning the proposed project and resource management plan amendment, will be provided through public notices, news media releases, the Wyoming BLM homepage at www.wy.blm.gov and/or mailings. These notifications will provide at least 15 days notice of public meetings or gatherings and 30 days notice of written comment requests.

ADDRESSES: Comments on the DEIS should be sent to the Bureau of Land Management, Paul Beels (Project Manager), 1425 Fort Street, Buffalo, Wyoming 82834. A copy of the DEIS has been sent to affected Federal, State, and local government agencies and to those persons who responded to the BLM that they wished to receive a copy of the DEIS. Copies of the DEIS are available for public inspection at the following BLM office locations:

Bureau of Land Management, Wyoming State Office, 5353 Yellowstone Road, Cheyenne, Wyoming 82009

Bureau of Land Management, Buffalo Field Office, 1425 Fort Street, Buffalo, Wyoming 82834

Bureau of Land Management, Casper Field Office, 2987 Prospector Drive, Casper, Wyoming 82604-2968

SUPPLEMENTARY INFORMATION: The DEIS analyzes a proposal by companies to drill and develop coalbed methane (CBM) wells in their leased acreage within the Powder River Basin Project Area (approximately 7,911,000 acres) in northeastern Wyoming. The area encompasses all of Johnson and Sheridan Counties except the Bighorn National Forest, all of Campbell County, and the northern portion of Converse County from township 37 north to the Campbell County line. The area is accessed by Interstates 25 and 90.

The DEIS describes the physical, biological, cultural, historic, and socioeconomic resources in and surrounding the project area. The focus for impact analysis was based upon resource issues and concerns identified during an extensive public scoping process. Potential impacts of concern from development (not in priority order), are Buffalo, Sheridan, Gillette, and surrounding communities economic, social, health and safety effects, crucial elk winter range, sage grouse and raptor breeding and nesting, soil erosion, groundwater draw down and contamination, Historic Bozeman Trail condition and viewshed, and cumulative effects. The primary issues driving alternative development are water and air quality.

Three alternatives were analyzed in detail: (1) Proposed Action, (2) Proposed Action with Reduced Emission Levels and Expanded Produced Water Handling Scenarios, and (3) No Action.

Alternative 1—The companies' proposed action has been combined with the BLM's Reasonable Foreseeable Development (RFD) scenario. A RFD scenario is a model or projection of anticipated oil and gas exploration and/or development activity (leasing, exploration, development, production, and abandonment) in a defined area for a specified period of time. The RFD scenario is based primarily on geology (potential for oil and gas resource occurrence) past and present oil and gas activity, with consideration of other significant factors, such as economics, technology, and physical limitations on access, existing or anticipated infrastructure and transportation. Along with industry's Proposed Action, which relates only to CBM activity, the BLM's RFD scenario forecasts the continued drilling of an estimated 3,200 oil wells. The RFD scenario also forecasts there could be an estimated 51,000 CBM wells in the EIS area over the next 10 years.

The companies' projections of CBM well drilling and production include various ancillary facilities within the Project Area. The ancillary facilities include access roads, pipelines for gathering gas and produced water, electrical utilities, facilities for treating and compressing gas and disposing of produced water, and pipelines for delivering gas under high pressure to transmission pipelines. Although the Companies would develop new wells throughout the 10-year period beginning in 2002, most of the drilling would occur during the first 8 years. All 51,000 wells would not be drilled into a single coal seam. Wells drilled into different coal seams can be collocated on common well pads. The projected number of well pads is 35,589. The total numbers of wells and well pads is based on an 80 acre well spacing pattern (eight pads per square mile). The 51,000 proposed CBM wells include an estimated 12,000 existing wells.

Under the Proposed Action, the Companies would construct, operate, and maintain wells and ancillary facilities in 10 of the 18 sub-watersheds that comprise the Project Area. However, most of the new wells (63 percent) and facilities would be constructed in two sub-watersheds: The Upper Powder River and Upper Belle Fourche River sub-watersheds. Sub-watersheds with relatively high numbers of wells and facilities include Clear Creek, Crazy Woman Creek, Tongue River, and Little Powder River.

Overall, implementation of the Proposed Action could disturb as many as 212,000 acres. This short-term disturbance would encompass about 3 percent of the Project Area. Most of this would be associated with the construction of pipelines and roads. Long-term disturbance is projected to be approximately 109,000 acres. Compressor stations would account for the smallest amount of the overall disturbance.

Construction of the Powder River Basin wells would begin during 2002. Generally, construction of most wells would be completed over the first 8 years (by the end of 2010). The production lifetime of the wells is expected to be about 7 years and final reclamation is expected to be completed during the 2 to 3 years following the end of production.

Emphasis for water handling for Alternative 1 is untreated surface discharge. All compression would be CBM powered.

Alternative 2 proposes the same number of CBM and conventional wells as the proposed action. There are two additional water-handling methods analyzed: A—Emphasis on infiltration and B—emphasis on treatment for beneficial use.

There are also two air quality options: A—Fifty percent of the booster compression would be electrically powered and B—One hundred percent of the booster compression would be electrically powered.

Alternative 3—No Action. This alternative would consist of no new Federal wells. Wells would only be developed on State and private mineral ownership.

Agency-Preferred Alternative: The BLM's preferred alternative is Alternative 1-Proposed Action. This alternative provides for the best balance of effects to costs and development of the CBM. Most of the Federal minerals in the project area have already been leased. The pattern of Federal and non-Federal mineral ownership coupled with the BLM's responsibilities under 43 CFR 3162.2 to prevent drainage of Federal CBM preclude the BLM from choosing Alternative 3 as the preferred alternative.

Alternatives 2A and 2B offer some advantages over Alternative 1, however, the advantages are insufficient to justify the additional costs and disturbance. Both alternatives 2A and 2B would increase short- and long-term disturbance over Alternative 1 by at least 10 percent. However, as documented in the analysis they would not substantially decrease effects to air quality, visibility, water quality, the primary issues for which the alternatives were developed. The amount of CBM water produced by alternatives 1, 2A, and 2B would be the same. The costs of implementing the water handling procedures of alternatives 2A and 2B would be substantially higher than those associated with Alternative 1, but the difference between the effects of these two alternatives and Alternative 1 does not reflect or justify these additional costs. The analysis documents that the benefits to air quality and visibility from electrifying half or all of the booster compressors would be insufficient to justify the additional costs of requiring the Companies to use electric booster compressors. It is estimated that few booster compressors would be built on surface that is Federally owned. The BLM does not have the ability to require electrification of compressors constructed off Federal surface. The permitting of the compressors is the responsibility of the State of Wyoming.

Draft RMP/ LRMP Amendments: The Forest Service is using the analysis documented in this DEIS to make a decision on authorization of leases on those portions of the TBNG that have potential for CBM development. The Forest Service has released a Final EIS and Proposed LRMP for the TBNG. In that analysis, they deferred the lease authorization decision for this analysis. The lease availability decision will be made in the Record of Decision (ROD) for the LRMP EIS.

The outcome of the impact analysis has shown no need for changes to areas open and closed to oil and gas leasing or stipulations proposed in the Final LRMP EIS. Several new mitigation measures would be required for lease authorization.

The BLM has also reviewed the existing RMP's decisions relative to this EIS impact analysis. The Agency Preferred Alternative would result in amendments to the Buffalo and Platte River RMPs. The RMP decisions with this alternative would be to continue oil and gas exploration and development including coalbed methane at the higher level of intensity evaluated in this alternative and including new mitigation measures.

Draft Amendments for the Buffalo RMP:

(1) No changes to current designations of areas open or closed to leasing.

(2) No changes to current, or addition of any new, lease stipulations.

(3) No changes to current resource objectives or decisions.

(4) Several new mitigation measures would be implemented.

(5) Impact analysis of the new RFD scenario for oil and gas.

Draft Amendments for the Platte River RMP:

(1) No changes to current designations of areas open or closed to leasing.

(2) No changes to current, or addition of any new, lease stipulations.

(3) No changes to current resource objectives or decisions.

(4) New mitigation measures.

The Final EIS and ROD would serve as an amendment to the Buffalo and Platte River RMPs. The Forest Service would need a ROD for their authorization decision.

This DEIS, in compliance with section 7(c) of the Endangered Species Act (as amended), includes the Biological Assessment for the purpose of identifying any endangered or threatened species likely to be affected by the proposed action.

Two Technical Report Documents have also been prepared in conjunction with the DEIS. They contain detailed technical information regarding air quality modeling, and groundwater modeling. A limited number of the technical report documents are available upon request or they may be reviewed at the BLM offices listed above.

The DEIS was prepared pursuant to the National Environmental Policy Act, and other regulations and statutes, to address possible environmental and socioeconomic impacts which could result from the project and to solicit public comments and concerns. This DEIS is not a decision document. Its purpose is to inform the public of the impacts associated with implementing the companies' drilling proposal and to evaluate alternatives to the proposal. This DEIS is also intended to provide information to other regulatory agencies for use in their decisionmaking process for other permits required for implementation of the project.

Comments, including the names and street addresses of respondents, will be made available for review by the public at the addresses listed below during regular business hours (8:00 a.m. to 4:30 p.m.), Monday through Friday, except holidays, and will be published as part of the Final EIS. However, individual respondents may request confidentiality. If you wish to withhold your name and/or street address from public review or from disclosure under the Freedom of Information Act, you must state this prominently at the beginning of your written comment. Such requests will be honored to the extent allowed by law. All submissions from organizations or businesses, and from individuals identifying themselves as representatives or officials of organizations or businesses, will be made available for public inspection in their entirety.

Dated: December 18, 2001.
Alan R. Pierson,
State Director.

[FR Doc. 02-2 Filed 1-10-02; 8:45 am]

BILLING CODE 4310-22-P